OFFICE OF PERSONNEL MANAGEMENT

Submission for Review: Renewal Without Change of an Existing Information Collection, OPM Form 1655, Application for Senior Administrative Law Judge, and OPM Form 1655-A, Geographic Preference Statement for Senior Administrative Law Judge Applicant, OMB Control Number 3206-0248

AGENCY: U.S. Office of Personnel Management.

ACTION: 60-Day notice and request for comments.

SUMMARY: The U.S. Office of Personnel Management (OPM) offers the general public and other Federal agencies the opportunity to comment on a revised information collection request (ICR) 3206-0248, OPM Form 1655, Application for Senior Administrative Law Judge, and OPM Form 1655-A, Geographic Preference Statement for Senior Administrative Law Judge Applicant.

DATES: Comments are encouraged and will be accepted until July 19, 2021. This process is conducted in accordance with 5 CFR 1320.8.

ADDRESSES: Interested persons are invited to submit written comments on the proposed information collection to the U.S. Office of Personnel Management, Administrative Law Judge Program Office, 1900 E Street NW, Washington, DC 20415, Attention: Ms. Diane Hobbs, Administrative Law Judge Program Manager or send via electronic mail to diane.hobbs@opm.gov.

FOR FURTHER INFORMATION CONTACT: A copy of this ICR, with applicable supporting documentation, may be obtained by contacting the U.S. Office of Personnel Management, Administrative Law Judge Program Office, 1900 E Street NW, Washington, DC 20415, Attention: Ms. Diane Hobbs. Administrative Law Judge Program Manager, or by sending a request via electronic mail to diane.hobbs@opm.gov.

SUPPLEMENTARY INFORMATION: As required by 44 U.S.C. 3506, OPM is soliciting comments for this collection. OPM Form 1655, Application for Senior Administrative Law Judge, and OPM Form 1655-A, Geographic Preference Statement for Senior Administrative Law Judge Applicant, are used by retired Administrative Law Judges seeking reemployment on a temporary and intermittent basis to complete hearings of one or more specified case(s) in accordance with the Administrative Procedure Act of 1946. This revision proposes to renew a currently approved collection. Therefore, we invite comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: U.S. Office of Personnel Management.

Title: OPM Form 1655, Application for Senior Administrative Law Judge, and OPM Form 1655-A, Geographic Preference Statement for Senior Administrative Law Judge Applicant.

OMB Control Number: 3206-0248.

Frequency: Annually.

Affected Public: Federal Administrative Law Judge Retirees.

Number of Respondents: Approximately 150—OPM Form 1655/Approximately 200—OPM Form 1655-A.

Estimated Time per Respondent: Approximately 30-45 Minutes—OPM Form 1655/Approximately 15-25 Minutes—OPM Form 1655-A.

Total Burden Hours: Estimated 94 hours—OPM Form 1655/Estimated 67 hours—OPM Form 1655-A.

U.S. Office of Personnel Management.
Stephen Hickman,
Acting Executive Secretary.

[FR Doc. 2021-10372 Filed 5-17-21; 8:45 am]

BILLING CODE 6325-43-P